DEPARTMENT OF ENERGY

Federal Energy Regulatory Commission

Combined Notice of Filings

Take notice that the Commission has received the following Natural Gas Pipeline Rate and Refund Report filings:

Filings Instituting Proceedings

Docket Numbers: RP12-848-000.

Applicants: CenterPoint Energy Gas Transmission Comp.

Description: CenterPoint Energy Gas Transmission Company, LLC submits tariff filing per 154.204: CEGT LLC—Connect Assignment to PVR to be effective 7/1/2012.

Filed Date: 7/2/12.

Accession Number: 20120702-5154.

Comments Due: 5 p.m. ET 7/16/12.

Docket Numbers: RP12-849-000.

Applicants: National Fuel Gas Supply Corporation.

Description: National Fuel Gas Supply Corporation submits tariff filing per 154.204: New Section 35(c) to be effective 8/1/2012.

Filed Date: 7/2/12.

Accession Number: 20120702-5172.

Comments Due: 5 p.m. ET 7/16/12.

Docket Numbers: RP12-850-000.

Applicants: WTG Hugoton, LP.

Description: WTG Hugoton, LP submits tariff filing per 154.203: Annual Fuel Retention Percentage Filing 2012-2013 to be effective 8/1/2012.

Filed Date: 7/2/12.

Accession Number: 20120702-5179.

Comments Due: 5 p.m. ET 7/16/12.

Docket Numbers: RP12-851-000.

Applicants: Cheyenne Plains Gas Pipeline Company, L.

Description: Cheyenne Plains Gas Pipeline Company, L.L.C. submits tariff filing per 154.403(d)(2): CPG Fuel and L&U Filing to be effective 8/1/2012.

Filed Date: 7/2/12.

Accession Number: 20120702-5272.

Comments Due: 5 p.m. ET 7/16/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-832-001.

Applicants: ANR Storage Company.

Description: ANR Storage Company submits tariff filing per 154.205(b): Twin Eagle Amendment to be effective 7/1/2012.

Filed Date: 7/2/12.

Accession Number: 20120702-5147.

Comments Due: 5 p.m. ET 7/16/12.

Any person desiring to protest in any the above proceedings must file in accordance with Rule 211 of the Commission's Regulations (18 CFR § 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: July 03, 2012.
Nathaniel J. Davis, Sr.,
Deputy Secretary.

[FR Doc. 2012-16866 Filed 7-10-12; 8:45 am]

BILLING CODE 6717-01-P